DEPARTMENT OF TRANSPORTATION

Federal Transit Administration

Notice of Continuation of the Early Scoping—Efficient Transportation Decision Making Process for the South Florida East Coast Corridor Transit Analysis

AGENCY: Federal Transit Administration, U.S. Department of Transportation and Florida Department of Transportation.

ACTION: Continuation of the Early Scoping—Efficient Transportation Decision Making Process for the South Florida East Coast Corridor Transit Analysis.

SUMMARY: The Federal Transit Administration (FTA) and the Florida Department of Transportation (FDOT) issue this notice to advise governmental agencies, the public and other interested stakeholders of FTA's and FDOT's intent to continue the early scoping and planning-level National Environmental Policy Act (NEPA)/Florida's Efficient Transportation Decision Making (ETDM) process previously initiated for the South Florida East Coast Corridor Transit Analysis (SFECCTA) study. This notice is announcing to interested parties that additional early scoping meetings will be held at the beginning of the second phase of early scoping/ETDM on the dates provided below, and to inform the general public regarding the ongoing planning process.

The FTA and FDOT have been exploring transportation alternatives along an 85-mile section of the existing Florida East Coast (FEC) Railway freight corridor between Miami and Tequesta, Florida. A programmatic Tier 1 Draft Environmental Impact Statement (DEIS) developed an approach for evaluating impacts associated with various transportation improvement alternatives. The Tier 1 DEIS identified a number of transportation improvement alternatives that will be further evaluated in the continuation of the early scoping/ETDM process. This process is intended to result in selection of one or more locally-preferred transportation improvement alternatives. FDOT has been engaged in alternatives analysis and produced the Final Conceptual Alternatives Analysis/Environmental Screening Report (AA/ESR) that documents the results of the first phase of the SFECCTA planning. An electronic copy of this interim report is available upon request from the contact below.

With the continuation of early scoping, the FTA and FDOT will discontinue the pursuit of a Tiered Programmatic EIS process and continue the statutorily required Alternatives Analysis process. Within this process, it is FDOT's intention to screen alternatives and determine transportation mode and general alignment within the corridor for each of the three independent corridor sections. At the conclusion of the early scoping process, the locally approved alternatives (LPAs) for each corridor segment will be adopted by the individual Metropolitan Planning Organizations and the Long Range Transportation Plans will be updated. FTA and FDOT will then prepare a Draft Environmental Impact Statement incorporating by reference all early scoping environmental planning efforts.

DATES: Written comments on this notice are welcomed and should be submitted to Mr. Scott P. Seeburger, Project Manager, Florida Department of Transportation, by March 10, 2009.

FOR FURTHER INFORMATION CONTACT: Information requests are welcomed and should be submitted to: Scott P. Seeburger, Project Manager, Florida Department of Transportation, District 4, Planning and Environmental Management, 3400 West Commercial Boulevard, Fort Lauderdale, FL 33309-3421, (954) 777-4632, FAX (954) 777-4671, scott.seeburger@dot.state.fl.us.

Public Meetings: Early scoping meetings will be held at the following wheelchair-accessible locations to advise interested agencies and the public about continued early scoping efforts on the SFECCTA and to receive comments:

Town of Jupiter: Wednesday, January 21, 2009 from 6 to 8 p.m. at the Jupiter Town Hall Council Chamber, 210 Military Trail, Jupiter, Florida.

City of Boca Raton: Tuesday, January 27, 2009 from 3:30 to 5:30 p.m. and from 6 to 8 p.m., Boca Raton Community Center, Royal Palm Room, 150 Crawford Boulevard, Boca Raton, Florida.

City of West Palm Beach: Wednesday, February 4, 2009 from 3:30 to 5:30 p.m. and from 6 to 8 p.m., Cohen Pavilion, Kravis Center, 701 Okeechobee Boulevard, West Palm Beach, Florida.

City of Riviera Beach: Thursday, February 5, 2009 from 6 to 8 p.m. at Riviera Beach City Hall Council Chamber Room C202, 600 West Blue Heron Boulevard, Riviera Beach, Florida.

City of Miami: Tuesday, February 10, 2009 from 3:30 to 5:30 p.m. and from 6 to 8 p.m. at the Greater Bethel AME Church, 245 NW 8th Street, Miami, Florida.

City of Delray Beach: Wednesday, February 11, 2009 from 6 to 8 p.m. at Delray Beach City Hall, 100 NW 1st Avenue, Delray Beach, Florida.

Village of Miami Shores: Thursday, February 12, 2009 from 6 to 8 p.m. at the Miami Shores Country Club Ballroom, 10000 Biscayne Boulevard, Miami Shores, Florida.

City of Hollywood: Tuesday, February 17, 2009 from 6 to 8 p.m. at the Hollywood Center for the Performing Arts—Auditorium & Cafe, 1770 Monroe Street, Hollywood, Florida.

City of Pompano Beach: Wednesday, February 18, 2009 from 6 to 8 p.m. at the E. Pat Larkins Community Center Auditorium—West Side, 520 NW 3rd Street, Pompano Beach, Florida.

City of Aventura: Tuesday, February 24, 2009 from 6 to 8 p.m. at the Aventura Community Recreation Center—Classrooms 1A, 1B, and 2, 3375 NE 188th Street, Miami, Florida.

City of Ft. Lauderdale: Wednesday, February 25, 2009 from 5 to 7 p.m. at the African American Research Library, 2650 West Sistrunk Boulevard, Ft. Lauderdale, Florida.

SUPPLEMENTARY INFORMATION: The FTA and FDOT published a notice of intent (NOI) in the Federal Register on March 28, 2006 (Volume 71, Number 59) to advise the public of their intent to prepare a Tier 1 Programmatic Environmental Impact Statement (PEIS) for the SFECCTA to evaluate transit improvements in Miami-Dade, Broward, and Palm Beach Counties, Florida. To date, the exploration of transportation improvement alternatives for the 85-mile-long existing Florida East Coast (FEC) Railway between Miami and Tequesta has taken place in the context of FDOT's ETDM process and the NEPA tiering process. A broad range of conceptual alternatives were considered, including various transit technologies, corridor alignments, and station locations. Preliminary screening of these conceptual alternatives identified a single generalized alignment and four viable alternatives including regional rail, rapid rail, light rail, and bus rapid transit that are to be carried into the detailed screening phase along with the Transportation System Management (TSM) alternative. A discussion of these alternatives may be found in the AA/ESR.

While the programmatic or tiered NEPA-ETDM process was initially undertaken, the form, substance, and eventual outcome of that process, as it was being pursued, may be likened to another recognized NEPA process—early scoping. Early scoping is a NEPA process that is particularly useful in situations where, as here, proposed actions (the locally-preferred alternatives) have not been identified and multiple transportation alternatives are under consideration in a broad corridor. Although scoping normally follows issuance of a notice of intent, which must describe the “proposed action,” it “may be initiated earlier, as long as there is appropriate public notice and enough information available on the proposal so that the public and relevant agencies can participate effectively.” [See the Council on Environmental Quality, “Forty Most Asked Questions Concerning CEQ's National Environmental Policy Act Regulations,” 46 FR 18026, 18030 (1981) (Answer to Question 13)] Thus far, information developed cooperatively with more than 90 key agencies and stakeholders, as well as the public, is more than adequate to continue an effective early scoping process for transportation alternatives in the 85-mile long Florida East Coast Railway corridor.

Continuation of the Early Scoping-ETDM Process

The continuation of the early scoping-ETDM process will build upon the Tier 1 process and documents. Comments on the scope of alternatives and impacts will continue to be considered. Because FDOT may seek New Starts funding for one or more of the locally-preferred alternatives, the early scoping-ETDM process will also serve as the vehicle for consideration of alternatives consistent with the provisions of 49 U.S.C. 5309 (Alternatives Analysis). The early scoping-ETDM process has established and will continue to refine a well-defined statement of purpose and need for the transportation improvement projects, as well as alternative means of meeting that purpose and need, thereby promoting a more efficient NEPA process. Early scoping provides a means through which duplication, waste, and delay that could otherwise be experienced in situations such as this may be avoided. This is consistent with Environmental Streamlining provisions of the Safe, Accountable, Flexible, Efficient Transportation Equity Act: A Legacy for Users (SAFETEA-LU).

The next phase of the early scoping-ETDM process will examine technologies, including regional rail, rapid rail, light rail, and bus rapid transit; station locations and types; grade crossing issues; maintenance facility and yard locations; locations for interconnecting passenger services between the existing South Florida Rail Corridor that is served by Tri-Rail Commuter services and the FEC Railway corridor; costs; funding; ridership; economic development; land use; engineering feasibility; and environmental factors in a selected corridor. To satisfy the § 5309 Alternatives Analysis requirement, FDOT will also evaluate options for transportation improvements in the study area that do not involve significant capital investment including TSM improvements and the implications of taking no action (i.e., the “no build” alternative). It is the purpose of this early scoping-ETDM process, to identify mode and general alignment in the SFECC and develop a well defined locally preferred alternative.

In conjunction with issuance of this notice, and consistent with provisions of 23 U.S.C. 139, a plan for coordinating public and agency participation in and comment on the environmental review process for issues and alternatives under consideration here and at subsequent phases of the process will be prepared.

Interim Report Availability

The SFECCTA was begun using a Tiered Environmental Impact Statement NEPA process. In processing the Tier 1 Draft Final Programmatic Environmental Impact Statement (FPEIS), FTA and FDOT agreed that the process followed for Tier 1 is consistent with the NEPA early scoping process, and that this early scoping process will be continued through the next study phase including selection of one or more locally preferred alternatives (proposed actions) in the corridor. Under this process, the Tier 1 Draft FPEIS will be considered an interim planning report and, as such, has been renamed the Conceptual AA/ESR. FTA and FDOT will no longer engage in the NEPA tiering process.

In Tier 1, an iterative screening process was applied to a broad range of conceptual alternatives. A shortlist of modal technologies and a generalized alignment were selected consistent with the FTA definition of conceptual alternatives. The study applied corridor-level NEPA principles and processes in the evaluation of alternatives and their potential environmental impacts as well as in the collaboration with governmental agencies and the public involvement program. The entire process was documented in a programmatic Tier 1 DEIS that was circulated to affected Federal, State, and local government agencies and to other interested stakeholders. A Notice of Availability was published on October 13, 2006 (Volume 71, Number 198) for this document, and a public hearing was conducted on November 8, 9, and 15, 2006 at different venues in the study area.

The Tier 1 DEIS and the Conceptual AA/ESR serve as the administrative record documenting the NEPA analysis performed to support the advanced alternatives analysis phase of decision-making, federal agency oversight, agency coordination, and public comments and responses. As mentioned above, the AA/ESR will serve as an interim report for the early scoping-ETDM process now being used and is renamed as the final report, Conceptual AA/ESR. The report may be viewed or downloaded from the project's Web site at www.sfeccstudy.com. An electronic copy of this interim report is available upon request from the contact above. Also, bound copies of the Conceptual AA/ESR will be available for public review, between January 9, 2009 to March 10, 2009, at the following locations:

Florida Department of Transportation, District 4 Planning and Environmental Management, 3400 West Commercial Boulevard, Fort Lauderdale, FL 33309-3421, Phone: (954) 777-4632.

Florida Department of Transportation, District 6 Planning and Environmental Management Office, 1000 NW. 111th Avenue, Miami, FL 33172, Phone: (305) 470-5220.

Issued on: January 7, 2009.
Ms. Yvette G. Taylor,
Regional Administrator, FTA Region 4.

[FR Doc. E9-435 Filed 1-12-09; 8:45 am]

BILLING CODE 4910-57-P